DEPARTMENT OF LABOR

Employment and Training Administration

[TA-W-65,640]

Gaston County Dyeing Machine Company; Mount Holly, NC; Notice of Termination of Investigation

Pursuant to Section 221 of the Trade Act of 1974, as amended, an investigation was initiated on March 20, 2009 in response to a petition filed by a One-Stop operator on behalf of workers of Gaston County Dyeing Machine Company, Mount Holly, North Carolina.

The petitioner has requested that the petition be withdrawn. Consequently, the investigation has been terminated.

Signed at Washington, DC, this 3rd day of April 2009.
Linda G. Poole,
Certifying Officer, Division of Trade Adjustment Assistance.

[FR Doc. E9-10389 Filed 5-5-09; 8:45 am]

BILLING CODE 4510-FN-P